DEPARTMENT OF TRANSPORTATION

National Highway Traffic Safety Administration

[Docket No. NHTSA-2005-22969; Notice 1]

Nissan North America, Inc., Receipt of Petition for Decision of Inconsequential Noncompliance

Nissan North America, Inc. (Nissan) has determined that certain vehicles that it produced in 2005 do not comply with S4.2.2 of 49 CFR 571.114, Federal Motor Vehicle Safety Standard (FMVSS) No. 114, “Theft protection.” Nissan has filed an appropriate report pursuant to 49 CFR part 573, “Defect and Noncompliance Reports.”

Pursuant to 49 U.S.C. 30118(d) and 30120(h), Nissan has petitioned for an exemption from the notification and remedy requirements of 49 U.S.C. Chapter 301 on the basis that this noncompliance is inconsequential to motor vehicle safety.

This notice of receipt of Nissan's petition is published under 49 U.S.C. 30118 and 30120 and does not represent any agency decision or other exercise of judgment concerning the merits of the petition.

Affected are a total of approximately 3400 Nissan Maximas produced between March 29, 2005 and May 26, 2005. S4.2.2 of FMVSS No. 114 requires that,

(a) Notwithstanding S4.2.1, provided that steering is prevented upon the key's removal, each vehicle specified therein may permit key removal when electrical failure of this system (including battery discharge) occurs or may have a device which, when activated, permits key removal. The means for activating any such device shall be covered by a non-transparent surface which, when installed, prevents sight of and activation of the device. The covering surface shall be removable only by use of a screwdriver or other tool.

(b) Notwithstanding S4.2.1, each vehicle specified therein may have a device which, when activated, permits moving the transmission shift lever from “park” after the removal of the key. The device shall either be operable:

(1) By the key, as defined in S3; or

(2) By another means, provided that steering is prevented when the key is removed from the ignition, and provided that the means for activating the device is covered by a non-transparent surface which, when installed, prevents sight of and activation of the device. The covering surface shall be removable only by use of a screwdriver or other tool.

The subject vehicles are equipped with an override device but the steering wheel may not lock under some circumstances when the key is removed.

Nissan believes that the noncompliance is inconsequential to motor vehicle safety and that no corrective action is warranted. Nissan states that the vehicles are equipped with an engine control module immobilizer system which prevents forward movement of the vehicle if the key is not present.

Nissan points out that NHTSA recently granted inconsequential noncompliance petitions for similar noncompliances by Bentley (69 FR 67211, 11/16/04), Volkswagen (69 FR 67211, 11/16/04), and Porsche (70 FR 32398, 6/2/05). Nissan also points out that NHTSA recently published a Notice of Proposed Rulemaking (70 FR 48362, 8/17/05), and that under this proposal, the system in the subject Maximas would be allowed.

Nissan further states,

The requirement that the steering be locked when the ignition key is removed through use of an “override device” was added to S4.2.2 “to ensure that Standard No 114's theft protection aspects are not jeopardized.” See 57 FR 2039, 2040 (January 17, 1992). In the Maxima vehicles at issue here, when the key is removed through use of the “override device,” which will occur rarely if at all, the immobilizer will prevent the vehicle from being jump-started without the electronically coded ignition key, because the key-code is recorded in the engine control module and cannot be electrically bypassed.

Interested persons are invited to submit written data, views, and arguments on the petition described above. Comments must refer to the docket and notice number cited at the beginning of this notice and be submitted by any of the following methods. Mail: Docket Management Facility, U.S. Department of Transportation, Nassif Building, Room PL-401, 400 Seventh Street, SW., Washington, DC 20590-0001. Hand Delivery: Room PL-401 on the plaza level of the Nassif Building, 400 Seventh Street, SW., Washington, DC. It is requested, but not required, that two copies of the comments be provided. The Docket Section is open on weekdays from 10 a.m. to 5 p.m. except Federal Holidays. Comments may be submitted electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: December 19, 2005.

Authority: 49 U.S.C. 30118, 30120: delegations of authority at CFR 1.50 and 501.8.

Issued on: November 15, 2005.
Daniel C. Smith,
Associate Administrator for Enforcement.

[FR Doc. 05-22919 Filed 11-17-05; 8:45 am]

BILLING CODE 4910-59-P